DEPARTMENT OF THE INTERIOR

Bureau of Land Management

[LLMTB072000-L14300000-ET0000; MTM 98499]

Public Land Order No. 7803; Withdrawal of Public Lands for the Limestone Hills Training Area; MT

AGENCY: Bureau of Land Management, Interior.

ACTION: Public Land Order.

SUMMARY: This order withdraws approximately 18,760.63 acres of public land from all forms of appropriation under the public land laws, including the United States mining laws, but not from leasing under the mineral leasing laws, for a period of 5 years. This withdrawal will protect the Limestone Hills Training Area in Broadwater County near Townsend, Montana, pending the processing of an Engle Act legislative withdrawal application.

DATES: Effective Date: September 25, 2012.

FOR FURTHER INFORMATION CONTACT: Mike Wyatt, Bureau of Land Management, Butte Field Office, 406-533-7619, mswyatt@blm.gov or Deborah Sorg, Bureau of Land Management, Montana State Office at 406-896-5045, dsorg@blm.gov. Persons who use a telecommunications device for the deaf (TDD) may call the Federal Information Relay Service (FIRS) at 1-800-877-8339 to contact either of the above individuals. The FIRS is available 24 hours a day, 7 days a week, to leave a message or question with either of the above individuals. You will receive a reply during normal business hours.

SUPPLEMENTARY INFORMATION: The Limestone Hills Training Area withdrawal will maintain the current surface uses, including a military training range for the Montana Army National Guard, pending the processing of an application for withdrawal of these lands for military purposes under the Engle Act.

Order

By virtue of the authority vested in the Secretary of the Interior by Section 204 of the Federal Land Policy and Management Act of 1976, 43 U.S.C. 1714, it is ordered as follows:

1. Subject to valid existing rights, the following described public land is hereby withdrawn from all forms of appropriation under the public land laws, including location and entry under the United States mining laws (30 U.S.C. Ch. 2), but not from leasing under the mineral leasing laws, pending the processing of an Engle Act withdrawal application.

Principal Meridian, Montana

T. 6 N., R. 1 E.,

Sec. 2, lots 1 to 4, inclusive, S½N½, N½SW¼, SE¼SW¼, and SE¼;

Sec. 3, lots 1 to 4, inclusive, S½N½, and S½;

Sec. 4, lots 1 to 4, inclusive, S½N½, and S½;

Sec. 5, lots 1 and 2, S½NE¼, and SE¼;

Sec. 8, E½ and E½SW¼;

Sec.. 9 and 10;

Sec. 11, E½, E½W½, and SW¼SW¼;

Sec. 12, lots 1 to 4, inclusive, W½E½, and W½;

Sec. 13, lots 1 to 4, inclusive, W½E½, and W½;

Sec.. 14 and 15;

Sec. 17, E½ and E½W½;

Sec. 20, E½ and E½W½;

Sec. 21;

Sec. 22, lots 3 and 4, W½NW¼, and S½SW¼;

Sec. 23;

Sec. 24, lots 1 to 4, inclusive, W½E½, and W½;

Sec. 25, lots 1 to 4, inclusive, W½E½, and W½;

Sec. 26;

Sec. 27, lots l to 9, inclusive, NE¼NE¼, S½NE¼, and SE¼;

Sec. 28, lots 1 to 4, inclusive, N½NE¼, W½, and W½SE¼;

Sec. 29, NE¼, E½NW¼, NE¼SW¼, N½SE¼, and SW¼SE¼;

Sec. 33, E½;

Sec. 34, lots l to 8, inclusive, NE¼, N½NW¼, and N½SE¼;

Sec. 35, lots 1 to 4, inclusive, N½, and N½S½.

T. 6 N., R. 2 E.,

Sec. 17, S½SW¼;

Sec. 18, lot 4, SE¼SW¼, and S½SE¼;

Sec. 19, lots 1, 2, and 3;

Sec. 20, W½;

Sec. 30, lots 2, 3, and 4, NE¼NE¼, S½NE¼, SE¼NW¼, E½SW¼, and SE¼.

T. 7 N., R. 1 E.,

Sec. 26, S½;

Sec. 27, lots 5 to 8, inclusive, and S½S½;

Sec. 28, S½SE¼;

Sec. 32, E½ except patented lands;

Sec. 33, 34, and 35.

The area described contains 18,760.63 acres in Broadwater County.

2. The withdrawal made by this order does not alter the applicability of those public land laws governing the use of the land under lease, license, or permit, or governing the disposal of the mineral or vegetative resources other than under the mining laws.

3. This withdrawal will expire 5 years from the effective date of this order, unless, as a result of a review conducted before the expiration date pursuant to Section 204(f) of the Federal Land Policy and Management Act, 43 U.S.C. 1714(f), the Secretary determines that the withdrawal shall be extended.

Dated: September 25, 2012.
Rhea S. Suh,
Assistant Secretary—Policy, Management and Budget.

[FR Doc. 2012-24415 Filed 10-2-12; 8:45 am]

BILLING CODE 1430-DN-P